DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: West Coast Region U.S. Pacific Highly Migratory Species Logbook Family of Forms.

OMB Control Number: 0648-0223.

Form Number(s): NOAA Form 88-197.

Type of Request: Regular submission (extension of a currently approved collection.

Number of Respondents: 1,700.

Average Hours per Response: 1 hour.

Burden Hours: 3,400.

Needs and Uses: Under the Fishery Management Plan for United States (U.S.) West Coast Fisheries for Highly Migratory Species (HMS) U.S. fishermen, participating in the Pacific hook-and-line (also known as the albacore troll and poll-and-line), coastal purse seine (vessels less than 400 st carrying capacity), large-mesh drift gillnet, and swordfish harpoon fisheries, are required to obtain a Highly Migratory Species (HMS) permit. Permit holders are also required to complete and submit logbooks documenting their daily fishing activities, including catch and effort for each fishing trip. Logbook forms must be completed within 24 hours of the completion of each fishing day and submitted to the Southwest Fisheries Science Center (SWFSC) within 30 days of the end of each trip. Federal regulations allow the use of state logbooks to fulfill this requirement, for example, California has fulfilled this requirement to date for HMS fisheries. These data and associated analyses help the SWFSC provide critical HMS fisheries information to researchers, fisheries managers, and the needed management advice to the U.S. in its negotiations with foreign fishing nations that fish for HMS.

At the November 2018 Pacific Fisheries Management Council meeting, the California Department of Fish and Wildlife submitted an informational report outlining proposed regulations to repeal the state logbook requirements for swordfish harpoon and large-mesh drift gillnet. In December 2018, the California Fish and Wildlife Commission adopted an amendment to the California Code of Regulations (CCR) to eliminate the use of California logbooks for these gear types. These regulations are expected to become effective on April 1, 2019.

As a result, NMFS has developed Federal logbooks to replace the California logbooks. In addition, the SWFSC developed a purse seine logbook for vessels under 400 st (362.8 mt) carrying capacity. This will replace their use of the Inter-American Tropical Tuna Commission (IATTC) Seiner Record and Bridge Log designed for purse seine vessels over 400 st (362.8 mt) carrying capacity.

The SWFSC and representatives from each of the fisheries have reviewed the Federal logbooks. Representatives were chosen based on their experience with State logbooks and specific gear-types. The information collected from the public will remain consistent and information currently collected from California Fish and Wildlife logbooks. There will be no additional burden to the public.

Affected Public: Business or other for-profit.

Frequency: Submission is required for each HMS fishing trip.

Respondent's Obligation: Keep an accurate and complete record of catch, effort, and other data on report forms. The original logbook form for each day of the fishing trip must be submitted to the Southwest Fisheries Science Center within 30 days of each landing of HMS.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-15584 Filed 7-22-19; 8:45 am]

BILLING CODE 3510-22-P